NUCLEAR REGULATORY COMMISSION

[Docket Nos. 50-369 And 50-370]

Environmental Assessment and Finding of No Significant Impact; Duke Power Company Llc; Mcguire Nuclear Station, Units 1 And 2

The U.S. Nuclear Regulatory Commission (NRC) is considering issuance of an amendment for Facility Operating Licenses Nos. NPF-9 and NPF-17, issued to Duke Power Company LLC (the licensee), for operation of the McGuire Nuclear Station, Units 1 and 2 (McGuire 1 and 2), located in Mecklenburg County, North Carolina. As required by Title 10 of the Code of Federal Regulations (10 CFR), Part 51, Section 51.21, the NRC is issuing this environmental assessment and finding of no significant impact.

Environmental Assessment

Identification of the Proposed Action

The proposed action would revise the McGuire 1 and 2 licensing basis to adopt a selective implementation of the alternative source term radiological analysis methodology in accordance with 10 CFR 50.67. The proposed action would also revise Technical Specification 3.9.4, “Containment Penetrations.”

The proposed action is in accordance with the licensee's application dated December 20, 2005, as supplemented by letters dated May 4 and August 31, 2006.

The Need for the Proposed Action

The proposed action would provide the licensee more flexibility in scheduling outage tasks when moving fuel that has been afforded 72 hours of fission product decay time. The proposed action would also revise the applicability of the specification to apply only during movement of recently irradiated fuel. The licensee committed to developing administrative controls to adequately close containment penetrations during refueling operations, if necessary. If the application is not approved, the current Technical Specification would unnecessarily restrict movement of irradiated fuel.

Environmental Impacts of the Proposed Action

The NRC has completed its evaluation of the proposed action and concludes that there are no environmental impacts associated with adopting a selective implementation of the alternative source term radiological analysis methodology.

The details of the staff's safety evaluation will be provided in the license amendment that will be issued as part of the letter to the licensee approving the license amendment.

The proposed action will not significantly increase the probability or consequences of accidents. The NRC amended its regulations to allow holders of operating licenses at currently operating reactors to voluntarily amend their design basis to replace the current accident source term with an alternative source term. The proposed rule was published for public comment and availability of the draft environmental assessment was noticed on March 11, 1999 (64 FR 12117). The NRC's finding of no significant environmental impact for revision of 10 CFR Parts 21, 50 and 54 (Agencywide Documents Access and Management System (ADAMS) Accession No. ML993430370), confirms that the use of an alternative source term alone does not increase core damage frequency, large early release frequency or actual offsite or onsite doses. The NRC's safety evaluation of the licensee's amendment request reassured the values met dose criteria. No changes are being made in the types of effluents that may be released off site. There is no significant increase in the amount of any effluent released off site. There is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resource than those previously considered in NUREG-0063, “Final Environmental Statement Related to the Operation of William B. McGuire Nuclear Station, Units 1 and 2,” April 1976, and the Addendum to NUREG-0063 issued in January 1981; and in NUREG-1437, “Generic Environmental Impact Statement for License Renewal of Nuclear Plants, Supplement 8, Regarding McGuire Nuclear Station, Units 1 and 2, Final Report,” dated December 2002.

Agencies and Persons Consulted

In accordance with its stated policy, on November 14, 2006, the staff consulted with the North Carolina State official, Mr. Jeffrey Bethea of the Division of Environmental Health, Radiation Protection Section, North Carolina Department of Environment and Natural Resources, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 20, 2005, as supplemented by letters dated May 4 and August 31, 2006. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html.

Persons who do not have access to ADAMS or who encounter problems in accessing the documents located in ADAMS should contact the NRC PDR Reference staff by telephone at 1-800-397-4209 or 301-415-4737, or send an e-mail to pdr@nrc.gov.

Dated at Rockville, Maryland, this 18th day of December 2006.
For the Nuclear Regulatory Commission.
John Stang,
Senior Project Manager, Plant Licensing Branch 2-1, Division of Operating Reactor Licensing, Office of Nuclear Reactor Regulation.

[FR Doc. E6-21938 Filed 12-21-06; 8:45 am]

BILLING CODE 7590-01-P